FEDERAL COMMUNICATIONS COMMISSION

[Report No. 2802—*CORRECTION]

Petition for Reconsideration of Action in Rulemaking Proceeding

February 14, 2007.

A Petition for Reconsideration has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to this petition must be filed by March 8, 2007. See Section 1.4(b)(1) of the Commission's rules (47 CFR 1.4(b)(1)). Replies to an opposition must be filed within 10 days after the time for filing oppositions have expired.

Subject: 1. In the Matter of Amendment of Section 73.202(b), Table of Allotments, FM Broadcast Stations (Port Norris, New Jersey, Fruitland, and Willards, Maryland, Chester, Lakeside, and Warsaw, Virginia) (MB Docket No. 04-409).

Number of Petitions Filed: 2.

*This is a correction to report #2802, released on December 28, 2006 to include an additional petition which was inadvertently omitted from MB Docket No. 04-409. The dates for filing oppositions will be extended to 15 days from the date of the publication of this notice in the Federal Register. Replies to an opposition will be extended to 10 days after the time for filing oppositions has expired.

Marlene H. Dortch,
Secretary.

[FR Doc. E7-2904 Filed 2-20-07; 8:45 am]

BILLING CODE 6712-01-P